DEPARTMENT OF ENERGY

Federal Energy Regulatory Commission

Notice of Revocation of Market-Based Rate Authority and Termination of Electric Market-Based Rate Tariff

| Docket Nos.
Data Collection for Analytics and Surveillance and Market-Based Rate Purposes | [RM16-17-001
DDP Specialty Electronic Materials US, Inc | ER21-331-000
MC (US) 3, LLC | ER21-330-000]

On April 20, 2023, the Commission issued an order announcing its intent to revoke the market-based rate authority of the sellers ¹ captioned above that had failed to file their baseline submissions to the market-based rate relational database,² as required by Order No. 860.³ The Commission directed that DDP Specialty Electronic Materials US, Inc. (DDP Materials) and MC (US) 3, LLC (MC 3) file the required baseline submission within 15 days of the date of issuance of the April 20 Order or face revocation of their authority to sell power at market-based rates and termination of their electric market-based rate tariffs.⁴

¹ A “seller” is defined as any person that has authorization to or seeks authorization to engage in sales for resale of electric energy, capacity or ancillary services at market-based rates under section 205 of the Federal Power Act (FPA). 18 CFR 35.36(a)(1); 16 U.S.C. 824d. Each seller is a public utility under section 205 of the FPA. 16 U.S.C. 824.

² Data Collection for Analytics & Surveillance & Mkt.-Based Rate Purposes, 183 FERC ¶ 61,027 (2023) (April 20 Order).

³ Data Collection for Analytics & Surveillance & Mkt.-Based Rate Purposes, Order No. 860, 168 FERC ¶ 61,039 (2019), order on reh'g, Order No. 860-A, 170 FERC ¶ 61,129 (2020).

⁴ April 20 Order, 183 FERC ¶ 61,027 at Ordering Paragraph A.

The time period for compliance with the April 20 Order has elapsed. DDP Materials and MC 3 failed to file their delinquent baseline submissions to the market-based rate relational database. The Commission hereby revokes, effective as of the date of issuance of this notice, the market-based rate authority and terminates the electric market-based rate tariffs of DDP Materials and MC 3. This revocation does not preclude DDP Materials and MC 3 from re-applying for market-based rate authority.

Dated: July 14, 2023.
Debbie-Anne A. Reese,
Deputy Secretary.

[FR Doc. 2023-15422 Filed 7-19-23; 8:45 am]

BILLING CODE 6717-01-P